FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than January 23, 2002..

A. Federal Reserve Bank of Atlanta (Cynthia C. Goodwin, Vice President) 1000 Peachtree Street, N.E., Atlanta, Georgia 30309-4470:

1. Jerry J. Williams, Naples, Florida; to retain voting shares of FirstBancorp, Inc., Naples, Florida, and thereby indirectly retain voting shares of Gulf Coast National Bank, Naples, Florida.

B. Federal Reserve Bank of Chicago (Phillip Jackson, Applications Officer) 230 South LaSalle Street, Chicago, Illinois 60690-1414:

1. Douglas and Mary Kapnick, Mary E. Kapnick Trust, Douglas L. Kapnick Trust, Adrian, Michigan; to acquire additional voting shares of Lenawee Bancorp, Inc., Adrian, Michigan, and thereby indirectly acquire additional voting shares of Bank of Lenawee, Adrian, Michigan, and Bank of Washtenaw, Saline, Michigan. In addition, the Elmer L. Kapnick Trust, Adrian, Michigan; has applied to retain voting shares of Lenawee Bancorp, Inc., Adrian, Michigan, and acquire additional voting shares of Bank of Lenawee, Adrian, Michigan, and Bank of Washtenaw, Saline, Michigan.

C. Federal Reserve Bank of San Francisco (Maria Villanueva, Consumer Regulation Group) 101 Market Street, San Francisco, California 94105-1579:

1. William R. Peeples, Santa Barbara, California; Ardyce M. Peeples, Santa Barbara, California; Melissa Peeples, Bronx, New York; Melanie D. Peeples, Davis, California; Michael F. Peeples, Sauh City, Wisconsin; Judith Ransom, Black River Falls, Wisconsin; Robert M. Peeples, Jr., Baton Rouge, Louisiana; Mary Ann Wander, Bradenton, Florida; Robert and Kathleen Peeples, Slidell, Louisiana; Daniel and Ardyce Acher, West Allis, Wisconsin; Shalla Acher, Haupen, Wisconsin; Michaela Moy, Madison, Wisconsin; Daniel Acher, West Allis, Wisconsin; all to retain voting shares of Community West Bancshares, Goleta, California, and thereby indirectly retain voting shares of Goleta National Bank, Goleta, California.

Board of Governors of the Federal Reserve System, January 3, 2002.
Robert deV. Frierson,
Deputy Secretary of the Board.

[FR Doc. 02-474 Filed 1-7-02; 8:45 am]

BILLING CODE 6210-01-S